DEPARTMENT OF LABOR

Office of the Secretary

Submission for OMB Review; Comment Request

June 14, 2002.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Marlene Howze at ((202 693-4158 or e-mail Howze-Marlene@dol.gov.

Comments should be sent to Office of Information and Regulatory Affairs, Attn: OMB desk Officer for ESA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Type of Review: Extension of a currently approved collection.

Agency: Employment Standards Administration (ESA).

Title: Notice of Recurrence.

OMB Number: 1215-0167.

Affected Public: Individuals or households.

Frequency: Once Per Recurrence.

Number of Respondents: 550.

Number of Annual Responses: 550.

Estimated Time Per Response: 30 minutes.

Total Burden Hours: 275.

Total Annualized Capital/Startup Costs: $0.

Total Annual Costs (operating/maintaining systems or purchasing services): $203.50.

Description: The Office of Workers' Compensation Programs administers the Federal Employees' Compensation Act (5 U.S.C. 8101, et seq). The statute provides for continuation of pay or compensation for work related injury or disease resulting from Federal employment. The information requested on the CA-2a is obtained from claimants with previously accepted injuries who claim a recurrence of disability, and from their supervisors. The information requested relates to the specific circumstances leading up to the recurrence and employment and earnings information. If this information were not collected, an eligible beneficiary could be denied benefits, or benefits could be authorized at an incorrect rate, resulting in an underpayment or overpayment of compensation.

Ira L. Mills,
Departmental Clearance Officer.

[FR Doc. 02-15756 Filed 6-20-02; 8:45 am]

BILLING CODE 4510-CH-M